DEPARTMENT OF ENERGY

Federal Energy Regulatory Commission

[Docket No. RP01-477-000]

TransColorado Gas Transmission Company; Notice of Tariff Filing

July 10, 2001.

Take notice that on July 3, 2001, TransColorado Gas Transmission Company(TransColorado) tendered for filing as part of its FERC Gas Tariff, Original Volume No. 1, the following tariff sheets, to be effective August 1, 2001:

Fifth Revised Sheet No. 102

Fourth Revised Sheet No. 112

Sixth Revised Sheet No. 200

Second Revised Sheet No. 244 and 245

Fourth Revised Sheet No. 246

First Revised Sheet Nos. 246A and 247B

Second Revised Sheet No. 265

First Revised Sheet No. 266

Second Revised Sheet No. 401 and 403

TransColorado is proposing to add a tiered cashout provision to its tariff to more appropriately link the cashout percentage penalty with the degree of the shipper's imbalance percentage. The proposed section will be added to TransColorado's Section 12.6, Cashout Procedures. This provision is in accordance with the Commission's Order No. 637 directive to provide a variety of imbalance provisions for Shippers.

Further, Section 12.10, Credit of Cashout Revenues, has been added to provide that cashout revenues in excess of cashout-related costs will be credited to firm shippers in proportion to the reservation charges paid by each shipper during the annual period that the cashed out imbalance occurred.

TransColorado is also proposing a provision for the incidental purchase and sale of gas necessary to provide transportation services or maintain system integrity, including the implementation of the proposed cashout provisions. The flexibility to buy and sell gas is essential for TransColorado's prudent management of its system.

TransColorado states that a copy of this filing has been served upon TransColorado's customers, the Colorado Public Utilities Commission and New Mexico Public Utilities Commission.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-17677 Filed 7-13-01; 8:45 am]

BILLING CODE 6717-01-P